DEPARTMENT OF THE INTERIOR

Fish and Wildlife Service

[FWS-R4-R-2008-N0218; 40136-1265-0000-S3]

Lake Woodruff National Wildlife Refuge, Lake and Volusia Counties, FL

AGENCY: Fish and Wildlife Service, Department of the Interior.

ACTION: Notice of availability: Final comprehensive conservation plan and finding of no significant impact.

SUMMARY: We, the U.S. Fish and Wildlife Service (Service), announce the availability of our final comprehensive conservation plan (CCP) and finding of no significant impact (FONSI) for Lake Woodruff National Wildlife Refuge (NWR). In the CCP, we describe how we will manage Lake Woodruff NWR for the next 15 years.

ADDRESSES: A copy of the final CCP may be obtained by visiting the refuge at 2045 Mud Lake Road, DeLeon Springs, FL 32130; by e-mailing LakeWoodruffCCP@fws.gov; by calling the Refuge Complex at 321/861-0667; or by writing the Refuge Complex at Lake Woodruff NWR (CCP), P.O. Box 2683, Titusville, FL 32781-2683. The CCP may also be accessed and downloaded from the Service's Internet Site: http://southeast.fws.gov/planning.

FOR FURTHER INFORMATION CONTACT: Cheri Ehrhardt; Telephone: 321/861-2368.

SUPPLEMENTARY INFORMATION:

Introduction

With this notice, we finalize the CCP process for Lake Woodruff NWR. We started this process through a notice of intent in the Federal Register on July 26, 2006 (71 FR 42412). For more about the process, see that notice.

Established in 1964, Lake Woodruff NWR is located approximately 28 miles west of Daytona Beach, Florida, in Lake and Volusia counties. The 21,574-acre refuge includes a diversity of habitats consisting of open water, freshwater marshes, impounded wetlands, and uplands. These areas support a variety of wildlife and plant species, including waterfowl and other migratory birds, as well as federal- and state-listed species. In addition, the refuge protects historical and archaeological sites and provides a range of visitor services.

We announce our decision and the availability of the final CCP and FONSI for Lake Woodruff NWR in accordance with National Environmental Policy Act (NEPA) [40 CFR 1506.6(b)] requirements. We completed a thorough analysis of impacts on the human environment, which we included in the Draft CCP and Environmental Assessment (Draft CCP/EA).

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

We solicited comments on the Draft CCP/EA for a 30-day period as announced in the Federal Register on April 23, 2008 (73 FR 21978). All comments were thoroughly evaluated, and changes were incorporated into the final CCP, where warranted.

Selected Alternative

After considering the comments we received, we have selected Alternative D for implementation. Under this alternative, refuge management will focus on maintaining native wildlife and habitat diversity, restoring habitats, improving conditions for threatened and endangered species and migratory birds, and increasing public use opportunities.

(Authority: This notice is published under the authority of the National Wildlife Refuge System Improvement Act of 1997, Public Law 105-57.)

Dated: August 27, 2008.
Cynthia K. Dohner,
Acting Regional Director.

[FR Doc. E8-24885 Filed 10-17-08; 8:45 am]

BILLING CODE 4310-55-P